DEPARTMENT OF HEALTH AND HUMAN SERVICES

National Institutes of Health

National Center for Advancing Translational Sciences; Amended Notice of Meeting

Notice is hereby given of a change in the meeting of the National Center for Advancing Translational Sciences Advisory Council, January 18, 2024, 11:00 a.m. to January 19, 2024, 6:00 p.m., National Institutes of Health, One Democracy Plaza, 6701 Democracy Boulevard, Bethesda, MD 20892 which was published in the Federal Register on November 03, 2023, FR Doc. 2023-24224, 88 FR 75295.

This notice is being amended to change the meeting date from January 18, 2024, to January 19, 2024. The meeting times and location remain the same as stated above. This meeting is partially closed to the public.

Dated: December 4, 2023.
Melanie J. Pantoja,
Program Analyst, Office of Federal Advisory Committee Policy.

[FR Doc. 2023-26903 Filed 12-6-23; 8:45 am]

BILLING CODE 4140-01-P